DEPARTMENT OF ENERGY

Federal Energy Regulatory Commission

Office of Energy Projects; Project No. 2082—California and Oregon Klamath Project; PacifiCorp

December 24, 2003.

Todd Olson,

Hydro Licensing Program Manager,

PacifiCorp,

825 NE, Multnomah, Suite 1500,

Portland, OR 97232.

Reference: Waiver Permitting Electronic Copies of Final License Application

Dear Mr. Olson:

This responds to your December 15, 2003, filing requesting a waiver of § 4.34(h) and § 385.2003 of the Commission's regulations to the extent that they require an original and eight paper copies of documents filed. Specifically, you asked that PacifiCorp be permitted to file an original and one paper copy, along with seven copies on compact disc (CD), of the final application for the Klamath Project.

Pursuant to § 375.302 of the Commission's regulations, I am partially granting your requested waiver. Filing an original and three copies on paper, along with five CD copies, in this case, will enable the Commission to make this filing available to the public through our Public Reference Room and via eLibrary on the Commission's website. Please also provide a copy of your final license application on CD to the Commission's Portland Regional Office.

PacifiCorp proposes to serve participants with copies of its final license application consistent with the requirements of § 385.2010(f)(3) of the Commission's regulations. Federal and state resource agencies, tribes, and active nongovernmental organizations will be provided one paper copy of the final license application. Other stakeholders will receive the application on CD. These other stakeholders would only be provided paper copies if they wish to pay the costs of printing and mailing. Please note that our regulations allow licensees to charge reasonable printing and postage fees for such documents provided to the public, including license applications [§ 16.7(e)(2)].

If you have any questions, please contact John Mudre at (202) 502-8902 or john.mudre@ferc.gov.

Linda Mitry,
Acting Secretary.

[FR Doc. E3-00671 Filed 12-31-03; 8:45 am]

BILLING CODE 6717-01-P